DEPARTMENT OF AGRICULTURE

Forest Service

Chippewa National Forest Resource Advisory Committee

AGENCY: Forest Service, USDA.

ACTION: Notice of meeting.

SUMMARY: The Chippewa National Forest Resource Advisory Committee will meet in Walker, Minnesota. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to review with the Chippewa National Forest Resource Advisory Committee members their roles and responsiblities, review project proposals and develop project priorities.

DATES: The meeting will be held Wednesday, August 29, 2012, 9:00 a.m.

ADDRESSES: The meeting will be held at Chase on the Lake, Meeting Room, 502 Cleveland Blvd. West, Walker, Minnesota 56484. Written comments should be sent to Chippewa National Forest RAC, 200 Ash Avenue NW., Cass Lake, MN 56633. Comments may also be sent via email to ttisler@fs.fed.us, or via facsimile to 218-335-8637.

All comments, including names and addresses when provided, are placed in the record and are available for public inspection and copying. The public may inspect comments received at the Chippewa National Forest Supervisors Office. Please call ahead to 218-335-8600 to facilitate entry into the building to view comments.

FOR FURTHER INFORMATION CONTACT: Todd Tisler, Forest Ecologist, Chippewa National Forest Forest Supervisor's Office, 218-335-8600.

Individuals who use telecommunication devices for the deaf (TDD) may call the Federal Information Relay Service (FIRS) at 1-800-877-8339 between 8:00 a.m. and 8:00 p.m., Eastern Standard Time, Monday through Friday. Requests for reasonable accomodation for access to the facility or procedings may be made by contacting the person listed FOR FURTHER INFORMATION CONTACT.

SUPPLEMENTARY INFORMATION: The meeting is open to the public. The following business will be conducted: review project proposals and develop project priorities. The agenda and any applicable documents may be previewed at http://www.fs.usda.gov/chippewa. Anyone who would like to bring related matters to the attention of the committee may file written statements with the committee staff before or after the meeting.

Dated: July 27, 2012.
Darla Lenz,
Chippewa National Forest Supervisor.

[FR Doc. 2012-19010 Filed 8-2-12; 8:45 am]

BILLING CODE 3410-11-P